POSTAL SERVICE

Product Change—Priority Mail Express, Priority Mail, and USPS Ground Advantage Negotiated Service Agreements; Priority Mail and USPS Ground Advantage Negotiated Service Agreements; Priority Mail Negotiated Service Agreements

AGENCY: Postal Service.

ACTION: Notice.

SUMMARY: The Postal Service gives notice of filing a request with the Postal Regulatory Commission to add a domestic shipping services contract to the list of Negotiated Service Agreements in the Mail Classification Schedule's Competitive Products List.

DATES: Date of required notice: August 20, 2025.

FOR FURTHER INFORMATION CONTACT: Sean C. Robinson, 202-268-8405.

SUPPLEMENTARY INFORMATION: The United States Postal Service hereby gives notice that, pursuant to 39 U.S.C. 3642 and 3632(b)(3), it filed with the Postal Regulatory Commission the following requests:

Date filed with Postal Regulatory Commission | Negotiated service agreement product category and number | MC Docket No. | K Docket No.
08/07/25 | PM-GA 801 | MC2025-1603 | K2025-1595
08/07/25 | PME-PM-GA 1398 | MC2025-1604 | K2025-1596
08/08/25 | PM 917 | MC2025-1605 | K2025-1597
08/08/25 | PME-PM-GA 1399 | MC2025-1606 | K2025-1598
08/11/25 | PM-GA 802 | MC2025-1607 | K2025-1599
08/11/25 | PM-GA 803 | MC2025-1608 | K2025-1600
08/12/25 | PM-GA 804 | MC2025-1609 | K2025-1601
08/12/25 | PM-GA 805 | MC2025-1610 | K2025-1602
08/12/25 | PM-GA 806 | MC2025-1611 | K2025-1603
08/12/25 | PM-GA 807 | MC2025-1612 | K2025-1604
08/13/25 | PM-GA 808 | MC2025-1613 | K2025-1605
08/13/25 | PM-GA 809 | MC2025-1614 | K2025-1606
08/14/25 | PM-GA 811 | MC2025-1616 | K2025-1608
08/14/25 | PM-GA 812 | MC2025-1617 | K2025-1609

Documents are available at www.prc.gov.

Sean C. Robinson,
Attorney, Corporate and Postal Business Law.

[FR Doc. 2025-15840 Filed 8-19-25; 8:45 am]

BILLING CODE 7710-12-P